DEPARTMENT OF DEFENSE

Office of the Secretary

Defense Advisory Committee on Women in the Services; Notice of Federal Advisory Committee Meeting

AGENCY: Under Secretary of Defense for Personnel and Readiness, Department of Defense.

ACTION: Notice of federal advisory committee meeting.

SUMMARY: The Department of Defense (DoD) is publishing this notice to announce that the following federal advisory committee meeting of the Defense Advisory Committee on Women in the Services (DACOWITS) will take place.

DATES: Day 1—Open to the public Tuesday, September 11, 2018 from 8:00 a.m. to 3:00 p.m. Day 2—Open to the public Wednesday, September 12, 2018 from 8:00 a.m. to 3:00 p.m.

ADDRESSES: The address of the open meeting is the Association of the United States Army Conference Center, 2425 Wilson Boulevard, Arlington, VA 22201.

FOR FURTHER INFORMATION CONTACT: Colonel Toya J. Davis, U.S. Army, (703) 697-2122 (Voice), 703-614-6233 (Facsimile), toya.j.davis.mil@mail.mil (Email). Mailing address is 4800 Mark Center Drive, Suite 04J25-01, Alexandria, VA 22350. Website: http://dacowits.defense.gov. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is for the DACOWITS to receive briefings and updates relating to their current work. The meeting will open with the Designated Federal Officer (DFO) giving a status update on the DACOWITS' requests for information. Day one will comprise five separate briefings from the DoD and Military Services on the following topics: Military Recruiting Strategies, Military Marketing Strategies, DoD Recruitable Population Demographics, Status of the United States Navy's Submarine Integration Efforts, and an update from the United States Marine Corps on the gender integration of Recruit Training. The second day of the meeting will open with a briefing from Military Services regarding their new Parental Leave Policies. This will be followed by a briefing from the National Guard Bureau on their Pregnancy and Parenthood Policies. Lastly the DACOWITS will propose and vote on their annual recommendations to the Secretary of Defense.

Agenda: Tuesday, September 11, 2018, from 8:00 a.m. to 3:00 p.m.—Welcome, Introductions, and Announcements; Request for Information Status Update; Briefings and DACOWITS discussion on: Military Recruiting Strategies, Military Marketing Strategies, DoD Recruitable Population Demographics, Submarine Integration Efforts, and the integration of Marine Corps' Recruit Training. Wednesday, September 12, 2018, from 8:00 a.m. to 3:00 p.m.—Welcome and Announcements; Briefing and DACOWITS discussion on the Military Services' Parental Leave Policies and the National Guard Bureau's Pregnancy and Parenthood Policies; and the annual voting session.

Meeting Accessibility: Pursuant to 5 U.S.C. 552b, as amended, and 41 CFR 102-3.140 through 102-3.165, this meeting is open to the public, subject to the availability of space.

Written Statements: Pursuant to 41 CFR 102-3.140, and section 10(a)(3) of the FACA, interested persons may submit a written statement to the DACOWITS. Individuals submitting a written statement must submit their statement no later than 5:00 p.m., Tuesday, September 4, 2018 to Mr. Robert Bowling (703) 697-2122 (Voice), 703-614-6233 (Facsimile), osd.pentagon.ousd-p-r.mbx.dacowits@mail.mil (Email). Mailing address is 4800 Mark Center Drive, Suite 04J25-01, Alexandria, VA 22350. If a written statement is not received by Tuesday, September 4, 2018, prior to the meeting, which is the subject of this notice, then it may not be provided to or considered by the DACOWITS until its next open meeting. The DFO will review all timely submissions with the DACOWITS Chair and ensure they are provided to the members of the Committee.

Dated: August 13, 2018.
Aaron T. Siegel,
Alternate OSD Federal Register Liaison Officer, Department of Defense.

[FR Doc. 2018-17700 Filed 8-15-18; 8:45 am]

BILLING CODE 5001-06-P